DEPARTMENT OF LABOR

Employment and Training Administration

[TA W-58,809]

Henry Pratt Company, Dixon, IL; Notice of Revised Determination on Reconsideration

By letter dated May 15, 2006 International Association of Machinists and Aerospace Workers, District No. 8, AFL-CIO requested administrative reconsideration regarding the Eligibility to Apply for Worker Adjustment Assistance, applicable to the workers of the subject firm who support production of machined and painted component parts of water valves at Henry Pratt Company, Machine Shop and Weld/Paint Shop, Dixon, Illinois.

The initial investigation resulted in a certification of Machine Shop and Weld/Paint Shop and did not include workers of other departments who supported production at Machine Shop and Weld/Paint Shop. The determination was signed on April 21, 2006 and the notice was published in the Federal Register on May 10, 2006 (71 FR 27291).

In the request for reconsideration the petitioner described the work performed by employees of other departments as support of production.

A review of the initial investigation confirmed the allegations of the petitioner and provided the facts in support of eligibility of workers of other departments for TAA as workers supporting production of machined and painted component parts of water valves at the subject firm.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the initial investigation, I determine that there was a shift in production from the workers' firm or subdivision to a foreign country of articles that are like or directly competitive with those produced by the subject firm or subdivision, and there has been or is likely to be an increase in imports of like or directly competitive articles. In accordance with the provisions of the Act, I make the following certification:

All workers of Henry Pratt Company, Dixon, Illinois, engaged in activities related to production and support of production of machined and painted component parts of water valves, who became totally or partially separated from employment on or after January 26, 2005 through April 21, 2008, are eligible to apply for adjustment assistance under Section 223 of the Trade Act of 1974, and are eligible to apply for alternative trade adjustment assistance under Section 246 of the Trade Act of 1974.

Signed in Washington, DC, this 20th day of June, 2006.
Elliott S. Kushner,
Certifying Officer, Division of Trade Adjustment Assistance.

[FR Doc. E6-10520 Filed 7-5-06; 8:45 am]

BILLING CODE 4510-30-P